DEPARTMENT OF COMMERCE

National Oceanic and Atmospheric Administration

[RTID 0648-XB397]

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will hold a four-day in-person and virtual (hybrid) meeting of its Standing, Reef Fish, Socioeconomic, and Ecosystem Scientific and Statistical Committees (SSC).

DATES: The meeting will take place Monday, September 27 to Thursday, September 30, 2021, from 8:30 a.m. to 5 p.m., EDT daily.

ADDRESSES: The in-person meeting will take place at the Gulf Council office. If you are unable to travel, you may attend via webinar. Registration information will be available on the Council's website by visiting www.gulfcouncil.org and clicking on the SSC meeting on the calendar.

Council address: Gulf of Mexico Fishery Management Council, 4107 W Spruce Street, Suite 200, Tampa, FL 33607; telephone: (813) 348-1630.

FOR FURTHER INFORMATION CONTACT: Mr. Ryan Rindone, Lead Fishery Biologist, Gulf of Mexico Fishery Management Council; ryan.rindone@gulfcouncil.org, telephone: (813) 348-1630.

SUPPLEMENTARY INFORMATION:

Monday, September 27, 2021; 8:30 a.m.-5 p.m., EDT

The meeting will begin with Introductions and Adoption of Agenda, Approval of Verbatim Minutes and Meeting Summary from the August 9-11, 2021 webinar meeting, and review of Scope of Work. The Committees will select an SSC Representative for the October 25-28, 2021 Gulf Council Meeting, and then briefly discuss the Final Draft of the Scientific and Statistic Committee's Best Practices and Voting Procedures. Next, the Committees will review and discuss a Decision Tree for Making Informed Decisions on Parameters for Yield Projections, along with an Evaluation of a Novel Projection Method to Streamline Allocation-informed Yields.

The Committees will review and discuss SEDAR 70: Gulf of Mexico Greater Amberjack Stock Assessment, including presentations, discussion of Maximum Sustainable Yield (MSY) proxies, and projections using the updated method. The Committees will then review and discuss the Terms of Reference for Gulf of Mexico Migratory Group Spanish Mackerel Operational Assessment, followed by the Scope of Work for Gulf of Mexico Migratory Group Cobia Operational Assessment.

Tuesday, September 28, 2021; 8:30 a.m.-5 p.m., EDT

The Committees will review a presentation and supporting documentation for Red Tide Ecosystem Modeling. Next, the Committees will review and discuss SEDAR 72: Gulf of Mexico Gag Stock Assessment Report, including presentations on the data, analyses, and projections used in the assessment. The Committees will then review a presentation on Using Field Experiments to Assess Alternative Mechanisms for Distributing Fish to the Recreational Sector.

Wednesday, September 29, 2021; 8:30 a.m.-5 p.m., EDT

The Committees will spend the day reviewing the LGL Ecological Associates absolute abundance study of Red Snapper off Louisiana, beginning with the Introduction: Estimating Absolute Abundance of Red Snapper off Louisiana. The Committees will review presentations on Study Area and Habitats, Habitat Areas and Discrete Structures, and Sampling Sites. Next, the Committees will review Field Surveys and Sample Processing, with presentations on: Hydroacoustic Field Surveys and Initial Data Processing; Hydroacoustic Data Processing Methods; and Other Survey Methods, including Camera Surveys, Hook and Line Surveys, Mark/Recapture Surveys, and Age Determinations. The Committees will then review Statistical Analyses and Modeling, with presentations on Mean Site Abundance of Red Snapper, Modeled Abundance of Red Snapper, Mark/Recapture Population Estimates, and Growth and Condition. The Committees will then review the project Results, with presentations on Mean Site Abundance Results; Modeled Site Abundance; and Age, Growth, and Condition. Finally, the Committees will have Discussion, with presentations on Overall Abundance, Impact on Stock Status, and Summary and Conclusions.

Thursday, September 30, 2021; 8:30 a.m.-5 p.m., EDT

The Committees will review the Finalized Great Red Snapper Count Report, including a presentation on the Response to Reviewer Comments and Final Project Outcomes. Next the Committees will receive a presentation on the Essential Fish Habitat Consultation Process, followed by reviews of the SEDAR Schedule and the Council's Interim Analysis Schedule. The Committees will then review the Standardized Bycatch Reporting Methodology. Lastly, the Committees will receive public comment before addressing any items under Other Business.

—Meeting Adjourns

The meeting will be also be broadcast via webinar. You may register for the webinar by visiting www.gulfcouncil.org and clicking on the SSC meeting on the calendar.

The Agenda is subject to change, and the latest version along with other meeting materials will be posted on www.gulfcouncil.org as they become available.

Although other non-emergency issues not on the agenda may come before the Scientific and Statistical Committees for discussion, in accordance with the Magnuson-Stevens Fishery Conservation and Management Act, those issues may not be the subject of formal action during this meeting. Actions of the Scientific and Statistical Committee will be restricted to those issues specifically identified in the agenda and any issues arising after publication of this notice that require emergency action under Section 305(c) of the Magnuson-Stevens Fishery Conservation and Management Act, provided the public has been notified of the Council's intent to take-action to address the emergency.

Special Accommodations

These meetings are physically accessible to people with disabilities. Requests for sign language interpretation or other auxiliary aid should be directed to Kathy Pereira, (813) 348-1630, at least 5 days prior to the meeting date.

Authority: 16 U.S.C. 1801 et seq.

Dated: September 3, 2021.
Tracey L. Thompson,
Acting Deputy Director, Office of Sustainable Fisheries, National Marine Fisheries Service.

[FR Doc. 2021-19487 Filed 9-7-21; 8:45 am]

BILLING CODE 3510-22-P